DEPARTMENT OF TRANSPORTATION

Office of the Secretary

Application of Air Excursions, LLC for Certificate Authority

AGENCY: Department of Transportation.

ACTION: Notice of Order to Show Cause (Order 2009-6-11), Docket DOT-OST-2008-0318.

SUMMARY: The Department of Transportation is directing all interested persons to show cause why it should not issue an order finding Air Excursions, LLC, fit, willing, and able to engage in interstate scheduled air transportation of persons, property, and mail.

DATES: Persons wishing to file objections should do so no later than June 26, 2009.

ADDRESSES: Objections and answers to objections should be filed in Docket DOT-OST-2008-0318 and addressed to U.S. Department of Transportation, Docket Operations, (M-30, Room W12-140), 1200 New Jersey Avenue, SE., West Building Ground Floor, Washington, DC 20590, and should be served upon the parties listed in Attachment A to the Order to Show Cause.

FOR FURTHER INFORMATION CONTACT: Lauralyn J. Remo, Chief, Air Carrier Fitness Division (X-56, Room W86-307), U.S. Department of Transportation, 1200 New Jersey Avenue, SE., Washington, DC 20590, (202) 366-9721.

Dated: June 12, 2009.
Christa Fornarotto,
Acting Assistant Secretary for Aviation and International Affairs.

[FR Doc. E9-14418 Filed 6-18-09; 8:45 am]

BILLING CODE P